Title 3—

The President

Proclamation 7574 of June 14, 2002

Father's Day, 2002

By the President of the United States of America

A Proclamation

Fathers play a unique and important role in the lives of their children. As mentor, protector, and provider, a father fundamentally influences the shape and direction of his or her child's character by giving love, care, discipline, and guidance.

As we observe Father's Day, our Nation honors fatherhood and urges fathers to commit themselves selflessly to the success and well-being of their children. And we reaffirm the importance of fathers in the lives of their children.

Raising a child requires significant time, effort, and sacrifice; and it is one of the most hopeful and fulfilling experiences a man can ever know. A father can derive great joy from seeing his child grow from infancy to adulthood. As a child matures into independence and self reliance, the value of a parent's hard work, love, and commitment comes to fruition.

Responsible fatherhood is important to a healthy and civil society. Numerous studies confirm that children whose fathers are present and involved in their lives are more likely to develop into prosperous and healthy adults. Children learn by example; and they need their father's presence as examples of virtue in their daily lives. A child's sense of security can be greatly enhanced by seeing his parents in a loving and faithful marriage.

My Administration strongly supports initiatives to strengthen fatherhood, promote stable families, and increase the ease of adoptions. We must also continue to enlist the help of citizens and community groups who reach out to father less or neglected children through mentoring and other acts of compassion.

On this Father's Day, we acknowledge and honor the love of our own fathers. I encourage all fathers to commit themselves to the continuing love and care of their children and their families.

NOW, THEREFORE, I, GEORGE W. BUSH, President of the United States of America, in accordance with a joint resolution of the Congress approved April 24, 1972, as amended (36 U.S.C. 109), do hereby proclaim June 16, 2002, as Father's Day. I encourage all Americans to express love, admiration, and thanks to their fathers for their contributions to our lives and to society. I direct the appropriate officials of the Government to display the flag of the United States on all Government buildings on this day. I also call upon State and local governments and citizens to observe this day with appropriate programs, ceremonies, and activities.

IN WITNESS WHEREOF, I have hereunto set my hand this fourteenth day of June, in the year of our Lord two thousand two, and of the Independence of the United States of America the two hundred and twenty-sixth.

B

[FR Doc. 02-15823

Filed 6-19-02; 8:47 am]

Billing code 3195-01-P